DEPARTMENT OF TRANSPORTATION

Pipeline and Hazardous Materials Safety Administration

[Docket No. PHMSA-2015-0210]

Pipeline Safety: Request for Special Permit

AGENCY: Pipeline and Hazardous Materials Safety Administration (PHMSA); DOT.

ACTION: Notice.

SUMMARY: Pursuant to the Federal pipeline safety laws, PHMSA is publishing this notice of a special permit request we have received from a pipeline operator, seeking relief from compliance with certain requirements in the Federal pipeline safety regulations. This notice seeks public comments on this request, including comments on any safety or environmental impacts. At the conclusion of the 30-day comment period, PHMSA will evaluate the request and determine whether to grant or deny a special permit.

DATES: Submit any comments regarding this special permit request by January 25, 2016.

ADDRESSES: Comments should reference the docket number for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590 between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or email at kay.mciver@dot.gov.

Technical: Max Kieba by telephone at 202-493-0595, or email at max.kieba@dot.gov.

SUPPLEMENTARY INFORMATION: PHMSA has received a request for a special permit from a pipeline operator seeking relief from compliance with certain pipeline safety regulations. The request includes a technical analysis provided by the operator. The request has been filed at www.Regulations.gov and assigned docket number PHMSA-2015-0210. We invite interested persons to participate by reviewing this special permit request and draft environmental assessment docketed at http://www.Regulations.gov, and by submitting written comments, data or other views. Please include any comments on potential environmental impacts that may result if this special permit is granted.

Before acting on this special permit request, PHMSA will evaluate all comments received on or before the comments closing date. Comments will be evaluated after this date if it is possible to do so without incurring additional expense or delay. PHMSA will consider each relevant comment we receive in making our decision to grant or deny a request.

PHMSA has received the following special permit request:

Docket No. | Requester | Regulation(s) | Nature of special permit
PHMSA-2015-0210 | Hess Corporation | 49 CFR 195.100; 112; 200; 202; 204; 206; 248; 260; 300; and 304 | To authorize Hess North Dakota Pipelines, LLC (“Hess”) to commission and operate two sections totaling approximately 14.5 miles of 6-inch crude oil intrastate gathering pipelines made of material other than steel in Mountrail County, North Dakota at a maximum operating pressure (MOP) of 1,050 pounds per square inch. The pipelines are manufactured by FlexSteel Pipeline Technologies of Houston, Texas. The two sections are affiliated with projects Hess refers to as EN Johnson Phase 2 and the EN VP&R. The Special Permit request seeks to waive compliance from certain Federal regulations found in 49 CFR 195.

Authority: 49 U.S.C. 60118(c)(1) and 49 CFR 1.97.

Issued in Washington, DC on December 21, 2015, under authority delegated in 49 CFR 1.97.
Alan K. Mayberry,
Deputy Associate Administrator for Policy and Programs.

[FR Doc. 2015-32487 Filed 12-23-15; 8:45 am]

BILLING CODE 4910-60-P